ENVIRONMENTAL PROTECTION AGENCY

40 CFR Part 52

[EPA-R03-OAR-2012-0370; FRL-9685-3]

Approval and Promulgation of Air Quality Implementation Plans; Pennsylvania; Pittsburgh-Beaver Valley Nonattainment Area Determinations of Attainment of the 1997 Annual Fine Particulate Standard

AGENCY: Environmental Protection Agency (EPA).

ACTION: Proposed rule.

SUMMARY: EPA is proposing to make two determinations regarding the Pittsburgh-Beaver Valley fine particulate matter (PM2.5) nonattainment area (hereafter referred to as “the Pittsburgh Area” or “the Area”). First, EPA is proposing to determine that the Area has attained the 1997 annual PM2.5 National Ambient Air Quality Standard (NAAQS). This proposed determination of attainment is based upon complete, quality-assured and certified ambient air monitoring data for the 2008-2010 period and data available to date for 2011, showing that the Area has monitored attainment of the 1997 annual PM2.5 NAAQS. If EPA finalizes this proposed determination of attainment, the requirements for the Area to submit an attainment demonstration and associated reasonably available control measures (RACM), a reasonable further progress (RFP) plan, contingency measures, and other planning State Implementation Plan (SIP) revisions related to the attainment of the standard shall be suspended for so long as the Area continues to attain the annual PM2.5 NAAQS. EPA is also proposing to determine, based on quality-assured and certified monitoring data for the 2007-2009 monitoring period, that the Area has attained the 1997 annual PM2.5 NAAQS by its applicable attainment date of April 5, 2010. These actions are being taken under the Clean Air Act (CAA).

DATES: Written comments must be received on or before July 11, 2012.

ADDRESSES: Submit your comments, identified by Docket ID Number EPA-R03-OAR-2012-0370 by one of the following methods:

A. www.regulations.gov. Follow the on-line instructions for submitting comments.

B. Email: Mastro.donna@epa.gov.

C. Mail: EPA-R03-OAR-2012-0370, Donna Mastro, Acting Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2012-0370. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103.

FOR FURTHER INFORMATION CONTACT: Emlyn Vélez-Rosa, (215) 814-2038, or by email at velez-rosa.emlyn@epa.gov.

SUPPLEMENTARY INFORMATION: Throughout this document, whenever “we,” “us,” or “our” is used, we mean EPA. This supplementary information section is arranged as follows:

I. What are the actions EPA is proposing?

II. What is the background of these actions?

III. What is EPA's analysis of the relevant air quality data?

IV. What are the effects of these actions?

V. Statutory and Executive Order Reviews

I. What are the actions EPA is proposing?

In accordance with section 179(c)(1) of the CAA, 42 U.S.C. 7509(c)(1), and 40 CFR 51.1004(c), EPA is proposing to determine that the Pittsburgh Area has attained the 1997 annual PM2.5 NAAQS. The proposal is based upon quality-assured and certified ambient air monitoring data for the 2008-2010 monitoring periods and data available to date for 2011 that show that the Pittsburgh Area attained the 1997 annual PM2.5 NAAQS. EPA is also proposing to determine, in accordance with EPA's PM2.5 Implementation Rule of April 25, 2007 (72 FR 20664), that the Pittsburgh Area has attained the 1997 annual PM2.5 NAAQS by its applicable attainment date of April 5, 2010, based upon quality-assured and certified ambient air monitoring data for the 2007-2009 monitoring periods.

II. What is the background of these actions?

On July 18, 1997, EPA established an annual PM2.5 NAAQS at 15.0 micrograms per cubic meter (μg/m³) (hereafter referred to as “the annual PM2.5 NAAQS” or “the annual standard”), based on a 3-year average of annual mean PM2.5 concentrations (62 FR 36852). At that time, EPA also established a 24-hour standard of 65 μg/m³. See 40 CFR 50.7. The 1997 PM2.5 standards were based on significant evidence and numerous health studies demonstrating that serious health effects are associated with exposures to particulate matter.

The process for designating areas following promulgation of a new or revised NAAQS is contained in section 107(d)(1) of the CAA. On January 5, 2005, EPA published its air quality designations and classifications for the 1997 PM2.5 NAAQS based upon air quality monitoring data for calendar years 2001-2003 (70 FR 944). These designations became effective on April 5, 2005. The Pittsburgh Area was designated nonattainment for the annual PM2.5 NAAQS during this designations process. The Pittsburgh Area is comprised of the counties of Beaver, Butler, Washington, and Westmoreland in their entireties, and portions of Allegheny, Armstrong, Greene, and Lawrence Counties. See 40 CFR 81.339 (Pennsylvania).

On October 17, 2006, EPA retained the annual PM2.5 NAAQS at 15.0 μg/m³ based on a 3-year average of annual mean PM2.5 concentrations and promulgated a new 24-hour standard of 35 μg/m³ (the “2006 24-hour standard”) based on a 3-year average of the 98th percentile of 24-hour concentrations (71 FR 61144). On November 13, 2009, EPA designated the Pittsburgh Area as attainment for the 2006 24-hour standard (74 FR 58688). In that action, EPA also clarified the designations for the PM2.5 NAAQS promulgated in 1997 stating that the Pittsburgh Area was attainment for the 1997 24-hour standard. Today's action, however, does not address either the 1997 or the 2006 24-hour standard.

In response to legal challenges of the annual standards promulgated in 2006, the U.S. Court of Appeals for the District of Columbia Circuit (D.C. Circuit) remanded this standard to EPA for further consideration. See American Farm Bureau Federation and National Pork Producers Council, et al. v. EPA, 559 F.3d 512 (D.C. Cir. 2009). However, given that the 1997 and 2006 annual standards are identical, attainment of the 1997 annual standard would also indicate attainment of the remanded 2006 annual standard.

On April 25, 2007, EPA promulgated its PM2.5 implementation rule, codified at 40 CFR part 51, subpart Z, in which EPA provided guidance for state and tribal plans to implement the 1997 PM2.5 NAAQS (72 FR 20664). This rule, at 40 CFR 51.1004(c), specifies some of the regulatory consequences of attaining the standard, as discussed later.

III. What is EPA's analysis of the relevant air quality data?

Today's proposed rulemaking action determines that the Pittsburgh Area has met the annual PM2.5 NAAQS, based on the most recent three years of quality-assured data, and that the Area attained the annual PM2.5 NAAQS by its applicable attainment date of April 5, 2010. Under EPA regulations at 40 CFR 50.7, the annual primary and secondary PM2.5 standards are met when the annual arithmetic mean concentration, as determined in accordance with 40 CFR part 50, appendix N, is less than or equal to 15.0 µg/m³ at all relevant monitoring sites in the subject area.

EPA has determined that the PM2.5 monitoring network for the Pittsburgh Area is adequate. First, the number of monitors in the Area meets the minimum regulatory requirements given in 40 CFR part 58, appendix D. Second, the monitoring is in accordance with the monitoring plans that have been reviewed and approved by EPA. EPA has reviewed the quality-assured, quality-controlled, certified ambient air monitoring data recorded in the EPA's AQS database for PM2.5 for the Pittsburgh Area from 2007-2009 and 2009-2010, consistent with the requirements contained in 40 CFR part 50. Preliminary PM2.5 data for 2011, which is not yet quality-assured and quality-controlled, was also reviewed.

Table 1 shows the design values (i.e., the 3-year average of annual mean PM2.5 concentrations) for the annual PM2.5 NAAQS for the Pittsburgh Area monitors for the years 2007-2009. Table 2 shows the design values for the annual PM2.5 NAAQS for the Pittsburgh Area monitors for the years 2008-2010. Table 3 shows the air quality preliminary data available to date for 2011. EPA's review of these data indicates that the Pittsburgh Area has met the annual PM2.5 NAAQS and that the Area attained the annual PM2.5 standard by its attainment date of April 5, 2010.

Table 1—Pittsburgh Area 2007-2009 Annual PM2.5 Data
[In μg/m³]
County | Site ID | Site name | 2007 Annual mean | 2008 Annual mean | 2009 Annual mean | 2007-2009 Design value
Allegheny | 42-003-0067 | South Fayette | 13.5 | 10.8 | 10.8 | 11.7
Allegheny | 42-003-0093 | North Park | 13.0 | (*) | 9.6 | 11.3
Allegheny | 42-003-0095 | Moon | 13.6 | (*) | 9.4 | 11.5
Allegheny | 42-003-1008 | Harrison | 15.1 | 13.4 | 12.7 | 13.7
Allegheny | 42-003-1301 | North Braddock | 16.6 | 14.1 | 12.1 | 14.3
Beaver | 42-007-0014 | Beaver Falls | 15.9 | 13.7 | 13.0 | 14.2
Washington | 42-125-0005 | Charleroi | 15.6 | 13.0 | 12.6 | 13.7
Washington | 42-125-0200 | Washington | 14.8 | 12.3 | 11.1 | 12.7
Washington | 42-125-5001 | Florence | 13.8 | 11.3 | 12.2 | 12.4
Westmoreland | 42-129-0008 | Greensburg | 15.3 | 12.7 | 13.5 | 13.8
* Incomplete data.

Table 2—Pittsburgh Area 2008-2010 Annual PM2.5 Data
[in μg/m³]
County | Site ID | Site name | 2008 Annual mean | 2009 Annual mean | 2010 Annual mean | 2008-2010 Design value
Allegheny | 42-003-0067 | South Fayette | 10.8 | 10.8 | 11.7 | 11.1
Allegheny | 42-003-0093 | North Park | (*) | 9.6 | 10.5 | 10.1
Allegheny | 42-003-0095 | Moon | (*) | 9.4 | 11.5 | 10.5
Allegheny | 42-003-1008 | Harrison | 13.4 | 12.7 | 13.0 | 13.0
Allegheny | 42-003-1301 | North Braddock | 14.1 | 12.1 | 13.7 | 13.3
Beaver | 42-007-0014 | Beaver Falls | 13.7 | 13.0 | 13.2 | 13.1
Washington | 42-125-0005 | Charleroi | 13.0 | 12.6 | 12.5 | 12.9
Washington | 42-125-0200 | Washington | 12.3 | 11.1 | 12.1 | 11.8
Washington | 42-125-5001 | Florence | 11.3 | 12.2 | 8.9 | 10.8
Westmoreland | 42-129-0008 | Greensburg | 12.7 | 13.5 | 14.0 | 13.4
* Incomplete data.

Table 3—Pittsburgh Area 2011 Preliminary Annual PM2.5 Data
[in µg/m³]
County | Site ID | Site name | 2011 Annual mean
Allegheny | 42-003-0067 | South Fayette | 10.6
Allegheny | 42-003-0093 | North Park | *9.0
Allegheny | 42-003-0095 | Moon | **
Allegheny | 42-003-1008 | Harrison | *11.6
Allegheny | 42-003-1301 | North Braddock | *12.3
Beaver | 42-007-0014 | Beaver Falls | 11.7
Washington | 42-125-0005 | Charleroi | *12.0
Washington | 42-125-0200 | Washington | 10.8
Washington | 42-125-5001 | Florence | 5.9
Westmoreland | 42-129-0008 | Greensburg | *13.7
* Incomplete data.
** No data available, since the monitor's removal in January 1, 2011.

While most of the monitoring data satisfy the data completeness requirement, monitoring sites ID 42-003-0093 (North Park) and ID 42-003-0095 (Moon) have missing data for the year 2008. To determine if the two monitors are in attainment with the annual PM2.5 NAAQS during the monitoring periods 2007-2009 and 2008-2010, EPA has addressed the missing data by applying a recently developed statistical procedure. The diagnostic design values for the North Park and Moon monitors in the Pittsburgh Area were below the annual PM2.5 NAAQS level of 15.0 ug/m³. Thus, the results indicate that had the North Park and Moon monitors operated more days, the monitors would have attained the annual PM2.5 NAAQS during the monitoring periods 2007-2009 and 2008-2010. Additional information about the monitoring network and air quality data used in this determination can be found in the Technical Support Document (TSD) for this action which is available online at www.regulations.gov, Docket number EPA-R03-OAR-2012-0370.

IV. What are the effects of these actions?

If EPA's proposed determination of attainment based on the most recent three years of quality-assured data is made final, the requirements for the Pittsburgh Area to submit an attainment demonstration and associated RACM, RFP plan, contingency measures, and any other planning SIPs related to attainment of the annual PM2.5 NAAQS would be suspended for so long as the Pittsburgh Area continues to attain the annual PM2.5 NAAQS. See 40 CFR 51.1004(c). Notably, as described below, any such determination would not be equivalent to the redesignation of the Pittsburgh Area to attainment for the annual PM2.5 NAAQS. If this proposed determination is finalized and EPA subsequently determines, after notice-and-comment rulemaking in the Federal Register, that the Area has violated the annual PM2.5 NAAQS, the basis for the suspension of the specific requirements would no longer exist for the Pittsburgh Area, and the Area would thereafter have to address the applicable requirements. See 40 CFR 51.1004(c).

Finalizing this proposed action would not constitute a redesignation of the Area to attainment of the annual PM2.5 NAAQS under section 107(d)(3) of the CAA. Further, finalizing this proposed action does not involve approving a maintenance plan for the Pittsburgh Area as required under section 175A of the CAA, nor would it find that the Area has met all other requirements for redesignation. Even if EPA finalizes the proposed action, the designation status of the Pittsburgh Area would remain nonattainment for the annual PM2.5 NAAQS until such time as EPA determines that the Area meets the CAA requirements for redesignation to attainment and takes action to redesignate the Pittsburgh Area. In addition, if EPA's separate and independent proposed determination that the Pittsburgh Area has attained the annual PM2.5 standard by its applicable attainment date (April 5, 2010) is finalized, EPA will have met its requirement pursuant to section 179(c)(1) of the CAA to make a determination based on the Area's air quality data as of the attainment date whether the Area attained the standard by that date.

These two actions described above are proposed determinations regarding the Pittsburgh Area's attainment only with respect to the annual PM2.5 NAAQS. Today's actions do not address the 1997 or the 2006 24-hour PM2.5 standards. EPA is soliciting public comments on the issues discussed in this document. These comments will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Public Law 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this proposed rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Particulate matter, Reporting and recordkeeping requirements.

Authority: 42 U.S.C. 7401 et seq.

Dated: May 17, 2012.
W.C. Early
Acting Regional Administrator, Region III.

[FR Doc. 2012-14094 Filed 6-8-12; 8:45 am]

BILLING CODE 6560-50-P